DEPARTMENT OF COMMERCE

National Oceanic and Atmospheric Administration

[I.D. 042506C]

North Pacific Fishery Management Council; Public Meeting

AGENCY: National Marine Fisheries Service (NMFS), National Oceanic and Atmospheric Administration (NOAA), Commerce.

ACTION: Notice of a public meeting of the North Pacific Fishery Management Council's Crab Plan Team.

SUMMARY: The Crab Plan Team will meet at the Alaska Fishery Science Center in Seattle, WA.

DATES: The meeting will be held on May 16-18, 2006, from 9 a.m. to 5 p.m.

ADDRESSES: The meeting will be held at the Alaska Fishery Science Center, 7600 Sand Point Way NE. Bldg 4, Seattle, WA 98115.

Council address: North Pacific Fishery Management Council, 605 W. 4th Avenue, Suite 306, Anchorage, AK 99501-2252.

FOR FURTHER INFORMATION CONTACT: Diana Stram; telephone: (907) 271-2809.

SUPPLEMENTARY INFORMATION: The team's agenda includes the following: Membership issues, election of vice-chair, discussion of need for additional Crab Plan Team members; trawl survey overview and review of 2005-06 fisheries - Norton Sound, Bristol Bay red king crab bycatch data; detailed review of snow crab assessment; review of preliminary analysis of crab overfishing definition revisions; Center for Independent Experts review of crab overfishing analysis; economic review of crab fisheries data from Crab Rationalization program, review of stock assessment models, projection of status of stocks; Bering Sea Crab Essential Fish Habitat measures considered by the Council (St. Matthew blue king crab and Eastern Bering Sea snow crab discussion paper); summer research issues/schedules; discuss finalized state/federal action plan and timeline for fall Total Allocation Catch (TAC) setting; review of recent Alaska Board of Fisheries actions on Bering Sea Tanner crab TAC and Community Development Quota (CDQ) fishery management plan; discussion of Stock Assessment Fishery Evaluation and other reporting issues; other issues/new business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: April 25, 2006.
Tracey L. Thompson,
Acting Director, Office of Sustainable Fisheries, National Marine Fisheries Service.

[FR Doc. E6-6442 Filed 4-27-06; 8:45 am]

BILLING CODE 3510-22-S